DEPARTMENT OF COMMERCE

Patent and Trademark Office

National Medal of Technology and Innovation Nomination Application

ACTION: Proposed collection; comment request.

SUMMARY: The United States Patent and Trademark Office (USPTO), as part of its continuing effort to reduce paperwork and respondent burden, invites the general public and other Federal agencies to take this opportunity to comment on the extension of a continuing information collection, as required by the Paperwork Reduction Act of 1995, Public Law 104-13 (44 U.S.C. 3506(c)(2)(A)).

DATES: Written comments must be submitted on or before February 2, 2015.

ADDRESSES: You may submit comments by any of the following methods:

• Email: InformationCollection@uspto.gov. Include “0651-0060 comment” in the subject line of the message.

• Mail: Marcie Lovett, Records Management Division Director, Office of the Chief Information Officer, United States Patent and Trademark Office, P.O. Box 1450, Alexandria, VA 22313-1450.

• Federal Rulemaking Portal: http://www.regulations.gov.

FOR FURTHER INFORMATION CONTACT: Requests for additional information should be directed to the attention of John Palafoutas, Program Manager, United States Patent and Trademark Office, P.O. Box 1450, Alexandria, VA 22313-1450, by telephone at 571-272-8400, or by email to nmti@uspto.gov with “Paperwork” in the subject line. Additional information about this collection is also available at http://www.reginfo.gov under “Information Collection Review.”

SUPPLEMENTARY INFORMATION:

I. Abstract

The National Medal of Technology and Innovation is the highest honor for technological achievement bestowed by the President of the United States on America's leading innovators. Established by an Act of Congress in 1980, the Medal of Technology was first awarded in 1985. The Medal is awarded annually to individuals, teams (up to four individuals), companies or divisions of companies for their outstanding contributions to the Nation's economic, environmental and social well-being through the development and commercialization of technology products, processes and concepts, technological innovation, and development of the Nation's technological manpower.

The purpose of the National Medal of Technology and Innovation is to recognize those who have made lasting contributions to America's competitiveness, standard of living, and quality of life through technological innovation, and to recognize those who have made substantial contributions to strengthening the Nation's technological workforce. By highlighting the national importance of technological innovation, the Medal also seeks to inspire future generations of Americans to prepare for and pursue technical careers to keep America at the forefront of global technology and economic leadership.

The National Medal of Technology and Innovation Nomination Evaluation Committee, a distinguished independent committee appointed by the Secretary of Commerce, reviews and evaluates the merit of all candidates nominated through an open, competitive solicitation process. The committee makes its recommendations for Medal candidates to the Secretary of Commerce who, in turn, makes recommendations to the President for final selection. The National Medal of Technology and Innovation Laureates are announced by the White House once the Medalists are notified of their selection.

The public uses the National Medal of Technology and Innovation Nomination Application to recognize through nomination an individual's, team's or company's extraordinary leadership and innovation in technological achievement and outstanding contributions to strengthening the nation's technological workforce. The application must be accompanied by six letters of recommendation or support from individuals who have first-hand knowledge of the cited achievement(s).

II. Method of collection

The nomination application and instructions can be downloaded from the USPTO Web site. Nomination files should be submitted by electronic mail to NMTI@USPTO.gov. Alternatively, letters of recommendation may be sent by electronic mail, fax, or overnight delivery.

III. Data

OMB Number: 0651-0060.

Form Number(s): None.

Type of Review: Extension of a currently approved collection.

Affected Public: Primarily business or other for-profit organizations; not-for-profit institutions; individuals or households.

Estimated Number of Respondents: 50 responses per year.

Estimated Time per Response: The USPTO estimates that it will take approximately 40 hours to gather the necessary information, prepare the nomination form, write the recommendations, and submit the request for the nomination to the USPTO.

Estimated Total Annual Respondent Burden Hours: 2,000 hours.

Estimated Total Annual Respondent Cost Burden: $75,000. The USPTO expects that private sector individuals of various occupations and professions will complete this information. The hourly rate for these individuals is estimated to be $37.50.

Item | Estimated time for response (hours) | Estimated annual responses | Estimated annual burden hours
National Medal of Technology and Innovation Nomination Form | 40 | 50 | 2,000
Totals |  | 50 | 2,000

Estimated Total Annual (Non-Hour) Respondent Cost Burden: $1.47.

Although it is possible for the public to submit the nominations through regular or express mail, recently very few submissions have been received in this manner. The majority of recent submissions have been through electronic mail. Therefore, we estimate one mailing per year within the next 3 years at a rate of 49 cents for a total postage cost of $1.47.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they will also become a matter of public record.

Dated: November 20, 2014.
Marcie Lovett,
Records Management Division Director, USPTO, Office of the Chief Information Officer.

[FR Doc. 2014-28355 Filed 12-1-14; 8:45 am]

BILLING CODE 3510-16-P